TENNESSEE VALLEY AUTHORITY

Meeting of the Regional Energy Resource Council

AGENCY: Tennessee Valley Authority (TVA).

ACTION: Notice of meeting.

SUMMARY: The TVA Regional Energy Resource Council (RERC) will hold a webinar meeting on Wednesday, October 15, 2014, regarding regional energy related issues in the Tennessee Valley.

The RERC was established to advise TVA on its energy resource activities and the priorities among competing objectives and values. Notice of this meeting is given under the Federal Advisory Committee Act (FACA), 5 U.S.C. App. 2.

The meeting agenda includes the following:

1. Welcome and Introductions.

2. Presentations and discussion regarding TVA's Integrated Resource Plan process and progress to date.

3. Council discussion regarding the progress and development of TVA's Integrated Resource Plan.

The Webinar is open to the public, through registration via: www.tva.com/rerc. No oral comments from the public will be accepted during the webinar session. The public may provide written comments during the meeting through the webinar interface. The public also may provide written comments to the RERC at any time through links on TVA's Web site at www.tva.com/rerc or by mailing written comments to the Regional Energy Resource Council, Tennessee Valley Authority, 400 West Summit Hill Drive, WT-9 D, Knoxville, Tennessee 37902.

DATES: The meeting will be held on Wednesday, October 15, from 9:00-12:00 p.m. EDT.

Location: The meeting will be conducted by webinar only. To request accommodation for a disability, please let the contact below know at least a week in advance.

FOR FURTHER INFORMATION CONTACT: Beth Keel, 400 West Summit Hill Drive, WT-9 D, Knoxville, Tennessee 37902, (865) 632-6113.

Dated: September 9, 2014.
Joseph J. Hoagland,
Vice President, Stakeholder Relations, Tennessee Valley Authority.

[FR Doc. 2014-22472 Filed 9-19-14; 8:45 am]

BILLING CODE 8120-08-P